COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that was previously furnished by nonprofit agencies employing persons who are blind or have other severe disabilities.

Comments Must Be Received on or Before: 10/16/2016.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSN(s)—Product Name(s): 7510-00-NIB-0432—Business Card Case, Fold-Up, Rosewood

Mandatory Source(s) of Supply: Tarrant County Association for the Blind, Fort Worth, TX

Contracting Activity: General Services Administration, New York, NY

NSN(s)—Product Name(s):

MR 10468—Set, Saver, Salad

MR 10674—Funnel, Collapsible

MR 10635—Serving Platter, Heavy Duty, Raised Surface, Fall Themed, White

MR 10627—Garden Seed Packets, Assorted, 4PK

MR 10623—Container, Frozen Waffle, Expandable

MR 10618—Stickers, Easter Themed, Assorted, 200ct

MR 10626—Poster Book, Coloring, Assorted, 36 x 42

MR 10609—Bowl, Insulated Thermal, Toddler, 8oz

MR 380—Set, Baking Cups and Picks, Holiday, 24PC

MR 382—Duct Tape, Holiday Themed, Assorted Colors

Mandatory Source(s) of Supply: Winston-Salem Industries for the Blind, Inc., Winston-Salem, NC

Contracting Activity: Defense Commissary Agency

NSN(s)—Product Name(s):

MR 1120—Bag, Storage, Vacuum Sealed, 6PG

MR 365—Serving Set, Stand and Bowl, Halloween Themed, 16oz

MR 371—Serving Set, Stand and Bowl, Holiday Themed, 16oz

MR 1146—Serving Set, Stand and Bowl, 16oz

MR 349—Containers, Storage, 6PG

MR 370—Serving Bowl, Holiday, Plastic 7Qt

MR 373—Chip and Dip Bowl, Holiday, Plastic

MR 301—Silicone Spatula

MR 355—Set, Serving Set, Party Travelling

MR 1183—Set, Mixing Bowl, Melamine, 4PC

MR 1159—Set, Bakeware, Cake Pop

MR 383—Server, Beverage, w Spout, 1.25G

Mandatory Source(s) of Supply: Industries for the Blind, Inc., West Allis, WI

Contracting Activity: Defense Commissary Agency

NSN(s)—Product Name(s):

6515-00-NIB-0770—Gloves, Surgical, Powder-free, OR Classic, White, Size 8″

6515-00-NIB-0771—Gloves, Surgical, Powder-free, OR Classic, White, Size 8.5″

6515-00-NIB-0772—Gloves, Surgical, Powder-free, OR Classic, White, Size 9″

6515-00-NIB-0773—Gloves, Surgical, Powder free, Sensicare Ortho, White, Size 5.5″

6515-00-NIB-0765—Gloves, Surgical, Powder-free, OR Classic, White, Size 5.5″

6515-00-NIB-0766—Gloves, Surgical, Powder-free, OR Classic, White, Size 6″

6515-00-NIB-0767—Gloves, Surgical, Powder-free, OR Classic, White, Size 6.5″

6515-00-NIB-0768—Gloves, Surgical, Powder-free, OR Classic, White, Size 7″

6515-00-NIB-0769—Gloves, Surgical, Powder-free, OR Classic, White, Size 7.5″

6515-00-NIB-0680—Gloves, Surgical, Powder-free, Derma Prene, Isotouch Hydrasoft, Green, Size 8.5″

6515-00-NIB-0681—Gloves, Surgical, Powder-free, Derma Prene, Isotouch Hydrasoft, Green, Size 9″

6515-00-NIB-0674—Gloves, Surgical, Powder-free, Derma Prene, Isotouch Hydrasoft, Green, Size 5.5″

6515-00-NIB-0675—Gloves, Surgical, Powder-free, Derma Prene, Isotouch Hydrasoft, Green, Size 6″

6515-00-NIB-0676—Gloves, Surgical, Powder-free, Derma Prene, Isotouch Hydrasoft, Green, Size 6.5″

6515-00-NIB-0677—Gloves, Surgical, Powder-free, Derma Prene, Isotouch Hydrasoft, Green, Size 7″

6515-00-NIB-0678—Gloves, Surgical, Powder-free, Derma Prene, Isotouch Hydrasoft, Green, Size 7.5″

6515-00-NIB-0679—Gloves, Surgical, Powder-free, Derma Prene, Isotouch Hydrasoft, Green, Size 8″

Mandatory Source(s) of Supply: Bosma Industries for the Blind, Inc., Indianapolis, IN

Contracting Activity: Strategic Acquisition Center, Fredericksburg, VA

NSN(s)—Product Name(s): 6515-00-NIB-8015—Gloves, Exam, Nitrile, Latex-Free, Powder-Free, W/Inner Aloe coating, 5.5 mil (palm), Green, x-Small

Mandatory Source(s) of Supply: Bosma Industries for the Blind, Inc., Indianapolis, IN

Contracting Activity: Department of Veterans Affairs

NSN(s)—Product Name(s): 7220-00-NIB-0143—Safety-Walk, Tapes & Treads—310 Black Medium Resilient

Mandatory Source(s) of Supply: Louisiana Association for the Blind, Shreveport, LA

Contracting Activity: General Services Administration, New York, NY

NSN(s)—Product Name(s): 8030-01-596-4258—Lubricant, 5-in-1 Penetrating Multipurpose oil, Biobased, Aerosol, 11 oz. net

Mandatory Source(s) of Supply: The Lighthouse for the Blind, St. Louis, MO

Contracting Activity: Defense Logistics Agency Troop Support

NSN(s)—Product Name(s):

6515-00-NIB-0531—Glove Powder Free, aloetouch micro

6515-00-NIB-0532—Glove Powder Free, aloetouch micro

6515-00-NIB-0533—Glove Powder Free, aloetouch micro

6515-00-NIB-0534—Glove Powder Free, aloetouch micro

6515-00-NIB-0535—Glove Powder Free, aloetouch micro

6515-00-NIB-0536—Glove Powder Free, aloetouch micro

6515-00-NIB-0537—Glove Powder Free, aloetouch micro

6515-00-NIB-0538—Glove Powder Free, aloetouch micro

6515-00-NIB-0481—Glove Powdered, Perry Orthopaedic

6515-00-NIB-0482—Glove Powdered, Perry Orthopaedic

6515-00-NIB-0483—Glove Powdered, Perry Orthopaedic

6515-00-NIB-0477—Glove Powdered, Perry Orthopaedic

6515-00-NIB-0478—Glove Powdered, Perry Orthopaedic

6515-00-NIB-0479—Glove Powdered, Perry Orthopaedic

6515-00-NIB-0461—Glove Powdered, Original Perry Style 42

6515-00-NIB-0462—Glove Powdered, Original Perry Style 42

6515-00-NIB-0463—Glove Powdered, Original Perry Style 42

6515-00-NIB-0464—Glove Powdered, Original Perry Style 42

6515-00-NIB-0465—Glove Powdered, Original Perry Style 42

6515-00-NIB-0466—Glove Powdered, Original Perry Style 42

6515-00-NIB-0467—Glove Powdered, Original Perry Style 42

6515-00-NIB-0468—Glove Powdered, Original Perry Style 42

6515-00-NIB-0208—Glove, Surgeon, Biogel Neotech, Size 5.5

6515-00-NIB-0209—Glove, Surgeon, Biogel Neotech, Size 6.0

6515-00-NIB-0210—Glove, Surgeon, Biogel Neotech, Size 6.5

6515-00-NIB-0211—Glove, Surgeon, Biogel Neotech, Size 7.0

6515-00-NIB-0212—Glove, Surgeon, Biogel Neotech, Size 7.5

6515-00-NIB-0213—Glove, Surgeon, Biogel Neotech, Size 8.0

6515-00-NIB-0214—Glove, Surgeon, Biogel Neotech, Size 8.5

6515-00-NIB-0215—Glove, Surgeon, Biogel Neotech, Size 9.0

6515-00-NIB-0192—Glove, Surgeon, Biogel Orthopaedic, Size 5.5

Mandatory Source(s) of Supply: Bosma Industries for the Blind, Inc., Indianapolis, IN

Contracting Activity: Department of Veterans Affairs

Services

Service Type: Temp. Admin/General Support Service

Mandatory for: National Institute of Health, 31 Center Dr., Bethesda, MD

Mandatory Source(s) of Supply: Columbia Lighthouse for the Blind, Washington, DC

Contracting Activity: Dept of Health and Human Services

Service Type: Medical Transcription Service

Mandatory for:

Corpus Christi Naval Air Station: Naval Hospital, 10651 E Street, Bldg H-100, Corpus Christi, TX

U.S. Naval Hospital, 3600 Rivers Ave., North Charleston, SC

Mandatory Source(s) of Supply: Lighthouse for the Blind of Houston, Houston, TX

Contracting Activity: DOD/Department of the Navy

Service Type: Administrative/General Support Service

Mandatory for: GSA, Southwest Supply Center, 819 Taylor Street, Fort Worth, TX

Mandatory Source(s) of Supply:

Lighthouse for the Blind of Houston, Houston, TX

West Texas Lighthouse for the Blind, San Angelo, TX

South Texas Lighthouse for the Blind, Corpus Christi, TX

Contracting Activity: General Services Administration, FPDS Agency Coordinator

Barry S. Lineback,
Director, Business Operations.

[FR Doc. 2016-22324 Filed 9-15-16; 8:45 am]

BILLING CODE 6353-01-P